NATIONAL AERONAUTICS AND SPACE ADMINISTRATION

[Notice 12-079]

National Environmental Policy Act; Sounding Rockets Program; Poker Flat Research Range

AGENCY: National Aeronautics and Space Administration (NASA).

ACTION: Notice of availability of the Draft Environmental Impact Statement (DEIS) for the NASA Sounding Rockets Program (SRP) at Poker Flat Research Range (PFRR), Alaska.

SUMMARY: Pursuant to the National Environmental Policy Act, as amended, (NEPA) (42 U.S.C. 4321 et. seq.), the Council on Environmental Quality Regulations for Implementing the Procedural Provisions of NEPA (40 CFR Parts 1500-1508), and NASA's NEPA policy and procedures (14 CFR Part 1216, subpart 1216.3), NASA has prepared and issued a DEIS for its continued use of the University of Alaska Fairbanks (UAF) owned and managed PFRR, outside of Fairbanks, Alaska. The U.S. Fish and Wildlife Service (USFWS), Bureau of Land Management (BLM), and UAF have served as Cooperating Agencies in preparing the DEIS. The purpose of this notice is to apprise interested agencies, organizations, tribal governments, and individuals of the availability of the DEIS and to invite comments on the document. In cooperation with BLM, UAF, and USFWS, NASA will hold public meetings as part of the DEIS review process. The meeting locations and dates identified at this time are provided under SUPPLEMENTARY INFORMATION below.

DATES: Interested parties are invited to submit comments on environmental issues and concerns, preferably in writing, within sixty (60) days from the date of publication in the Federal Register of the U.S. Environmental Protection Agency's Notice of Availability of the DEIS. Once known, this date will be published on the project Web site presented under ADDRESSES below.

ADDRESSES: Comments submitted by mail should be addressed to Joshua Bundick, Manager, Poker Flat Research Range EIS, NASA Goddard Space Flight Center's Wallops Flight Facility, Mailstop: 250.W, Wallops Island, Virginia 23337. Comments may be submitted via email to Joshua.A.Bundick@nasa.gov.

The DEIS may be reviewed at the following locations:

(a) ARLIS, 3211 Providence Drive, Anchorage, Alaska, 99508 (907-272-7547).

(b) Z.J. Loussac Public Library, 3600 Denali Street, Anchorage, Alaska, 99503 (907-343-2975).

(c) Elmer E. Rasmuson Library, 310 Tanana Loop, Fairbanks, Alaska, 99775 (907-474-7481).

(d) Noel Wien Library, 1215 Cowles Street, Fairbanks, Alaska 99701 (907-459-1020).

(e) Juneau Public Library, 292 Marine Way, Juneau, Alaska 99801 (907-586-5249).

(f) NASA Headquarters Library, Room 1J20, 300 E Street SW., Washington, DC 20546-0001 (202-358-0168).

A limited number of hard copies of the DEIS are available, on a first request basis, by contacting the NASA point of contact listed under FOR FURTHER INFORMATION. The DEIS is available on the internet in Adobe® portable document format at http://sites.wff.nasa.gov/code250/pfrr_eis.html. The Federal Register Notice of Intent to prepare the DEIS, issued on April 13, 2011, is also available on the internet at the same Web site address.

FOR FURTHER INFORMATION CONTACT: Joshua Bundick, Manager, Poker Flat Research Range EIS, NASA Wallops Flight Facility, Mailstop: 250.W, Wallops Island, Virginia 23337; telephone (757) 824-2319; fax (757) 824-1819; email: Joshua.A.Bundick@nasa.gov. A toll-free telephone number, (800) 521-3415, is also available for persons outside the local calling area. When using the toll-free number, please follow the menu options and enter the “pound sign (#)” followed by extension numbers “2319.”

Additional information about NASA's SRP and UAF's PFRR may be found on the internet at http://sites.wff.nasa.gov/code810 and http://www.pfrr.alaska.edu, respectively. Information regarding the NEPA process for this proposal and supporting documents (as available) are located at http://sites.wff.nasa.gov/code250/pfrr_eis.html.

SUPPLEMENTARY INFORMATION: Since the late 1960s, NASA, other government agencies, and educational institutions have conducted suborbital rocket launches from the PFRR. While the PFRR is owned and managed by the Geophysical Institute of UAF, the NASA SRP has exclusively funded and managed the support contract with PFRR for more than 25 years. The PFRR is the only high-latitude, auroral-zone rocket launching facility in the United States where a sounding rocket can readily study the aurora borealis and the sun-earth connection.

Related Environmental Documents

In recent years, concerns raised by agencies and organizations regarding the potential impact of its operations at PFRR prompted NASA to review its 2000 SRP Final Supplemental Environmental Impact Statement (FSEIS). In doing so, NASA determined that while the overall environmental analysis in the 2000 SRP FSEIS remains sufficient to support the Agency's broad decision to continue the SRP at PFRR, potential changes in both operations and the environmental context of the launch corridor north of the site warranted preparation of additional site-specific environmental analysis. Accordingly, the DEIS tiers from the programmatic 2000 FSEIS and provides a focused analysis of SRP operations at PFRR.

Cooperating Agency Actions

The PFRR EIS will serve as a decision-making tool not only for NASA but also for its two Federal Cooperating Agencies, BLM and USFWS. Directly north of the PFRR facility are its downrange flight zones, over which rockets are launched and within which spent stages and payloads impact the ground. Within these flight zones are BLM's Steese National Conservation Area and White Mountain National Recreational Area, and the USFWS-managed Arctic and Yukon Flats National Wildlife Refuges. Historically, the managing entities have issued UAF annual or multi-year special-use authorizations and agreements for impact of rockets and recovery operations on these lands.

BLM and USFWS are currently considering if and how future authorizations for rocket landing and recovery would be issued for the properties under their management. As such, the DEIS considers the effects of each agency's respective permitting actions.

Alternatives

The DEIS evaluates the environmental consequences of five alternative means for continuing sounding rocket launches at PFRR. The alternatives differ primarily in the level of effort that would be exerted to locate and recover past and future launch related items in downrange lands. Two alternatives also include a restriction on planning rocket motor or payload impacts within designated Wild or Scenic Rivers.

Public Meetings

NASA and its Cooperating Agencies plan to hold public meetings in Alaska to discuss the SRP at PFRR and to solicit comments on the DEIS.

The public meetings are currently scheduled for:

—Wednesday, October 24, 2012, at the USFWS Alaska Regional Office, Gordon Watson Conference Room, 1011 East Tudor Road, Anchorage, Alaska, 6:00 p.m.-8:00 p.m.

—Thursday, October 25, 2012, at the BLM Fairbanks District Office, 1150 University Avenue, Fairbanks, Alaska, 6:00 p.m.-8:00 p.m.

Times and locations of additional meetings, particularly those with interior Villages, will be coordinated with the respective governing bodies and published locally as they are scheduled. NASA will consider all comments received in developing its Final EIS; comments received and responses to comments will be included in the Final document. In conclusion, written public input on environmental issues and concerns associated with NASA's SRP launches at PFRR are hereby requested.

Olga M. Dominguez,
Assistant Administrator, Office of Strategic Infrastructure.

[FR Doc. 2012-24891 Filed 10-9-12; 8:45 am]

BILLING CODE 7510-13-P